DEPARTMENT OF AGRICULTURE

Office of the Secretary

7 CFR Part 1

Official Records, Authentication

AGENCY: Office of the Secretary, USDA.

ACTION: Final rule.

SUMMARY: This final rule amends Department of Agriculture (USDA) regulations on the procedures that USDA agencies follow upon receipt of a request for an authenticated copy of an agency document. Specifically, this rule authorizes the Inspector General to authenticate copies of documents in the records of the Office of Inspector General (OIG).

DATES: Effective November 27, 2007.

FOR FURTHER INFORMATION CONTACT: Mr. David R. Gray, Counsel to the Inspector General, Office of Inspector General, U.S. Department of Agriculture, 1400 Independence Avenue, SW., Room 441-E, Washington, DC 20250-2308, Telephone: (202) 720-9110, Facsimile: (202) 690-1528, e-mail: dry@oig.usda.gov.

SUPPLEMENTARY INFORMATION: 7 CFR 1.22 provides that when a USDA agency receives a request for an authenticated copy of an agency document, the agency will send a correct copy to the Office of the General Counsel (OGC). If appropriate, OGC will authenticate the document by certifying that the copy is correct and affixing the USDA seal on the document. The regulation makes an exception for two offices within USDA: (1) The Hearing Clerk in the Office of Administrative Law Judges (OALJ) may authenticate copies of documents in the records of the Hearing Clerk; and (2) the Director of the National Appeals Division (NAD) may authenticate copies of documents in the records of the NAD.

This amendment provides that the Inspector General may authenticate copies of documents in the records of OIG.

Pursuant to section 2 of the Inspector General Act of 1978 (5 U.S.C. App. 3), Congress established Offices of Inspectors General to serve as independent and objective units within Government departments and agencies that would promote economy, efficiency, and effectiveness in the administration of, and prevent and detect fraud and abuse in, the programs and operations of such departments and agencies. Toward that end, the USDA-OIG conducts investigations, audits, inspections, and reviews related to USDA programs and operations, and prepares reports and other documents setting forth the results of such investigations, audits, inspections, and reviews.

OIG controls the distribution and release of its documents in response to requests pursuant to the Freedom of Information Act (5 U.S.C. 552) and the Privacy Act (5 U.S.C. 552a). This rule ensures that the authentication of OIG documents is conducted by the Inspector General, who may certify that a copy of a requested document is authentic, true, and correct.

This rule relates to internal agency management. Therefore, pursuant to 5 U.S.C. 553, notice of proposed rulemaking and opportunity for comment are not required. This rule may be made effective less than 30 days after publication in the Federal Register. Further, this rule is exempt from the provisions of Executive Order 12866 because it relates to internal agency management. In addition, the provisions of the Regulatory Flexibility Act relating to an initial and final regulatory flexibility analysis (5 U.S.C. 603, 604) are not applicable to this final rule because USDA was not required to publish a notice of proposed rulemaking under 5 U.S.C. 553 or any other law. Finally, this action does not require review by Congress because it is not a rule as defined in 5 U.S.C. 804.

List of Subjects in 7 CFR Part 1

Administrative practice and procedure, Freedom of information, Privacy.

For the reasons set forth in the preamble, USDA amends 7 CFR part 1 as follows:

PART 1—ADMINISTRATIVE REGULATIONS

1. The authority citation for subpart A continues to read as follows:

Authority: 5 U.S.C. 301, 552; 7 U.S.C. 3125a; 31 U.S.C. 9701; and 7 CFR 2.28(b)(7)(viii).

2. Revise § 1.22 to read as follows:

§ 1.22 Authentication.

When a request is received for an authenticated copy of a document that the agency determines to make available to the requesting party, the agency shall cause a correct copy to be prepared and sent to the Office of the General Counsel, which shall certify the same and cause the seal of the Department to be affixed, except that the Hearing Clerk in the Office of Administrative Law Judges may authenticate copies of documents in the records of the Hearing Clerk, the Director of the National Appeals Division may authenticate copies of documents in the records of the National Appeals Division, and the Inspector General may authenticate copies of documents in the records of the Office of Inspector General.

Dated: October 18, 2007.
Charles F. Conner,
Acting Secretary of Agriculture.

[FR Doc. 07-5826 Filed 11-26-07; 8:45 am]

BILLING CODE 3410-23--M